POSTAL REGULATORY COMMISSION

[Docket No. R2012-5; Order No. 1568]

Standard Mail Pricing

AGENCY: Postal Regulatory Commission.

ACTION: Notice.

SUMMARY: The Commission is noticing a recent Postal Service filing concerning an amendment to an existing negotiated service agreement with Canada Post Corporation. This notice informs the public of the filing, invites public comment, and takes other administrative steps.

DATES: Comments are due: December 17, 2012.

ADDRESSES: Submit comments electronically via the Commission's Filing Online system at http://www.prc.gov. Those who cannot submit comments electronically should contact the person identified in the FOR FURTHER INFORMATION CONTACT section by telephone for advice on filing alternatives.

FOR FURTHER INFORMATION CONTACT: Stephen L. Sharfman, General Counsel, at 202-789-6820.

SUPPLEMENTARY INFORMATION:

Table of Contents

I. Introduction

II. Contents of Filing

III. Notice of Filing and Related Proceeding

IV. Ordering Paragraphs

I. Introduction

On November 29, 2012, the Postal Service filed a notice informing the Commission of a development related to an amendment to an existing bilateral agreement with Canada Post Corporation (Notice).¹ The development involves the Postal Service's receipt of notification, from Canada Post Corporation, of an anticipated product launch date of January 14, 2013 for a certain inbound product. Notice at 1. Offering of the inbound product had been agreed to as one of several initiatives, but the launch date had not been determined at the time the amendment was executed.² Id.

¹ Notice of United States Postal Service of Amendment to Agreement, November 29, 2012 (Notice). The Agreement was approved in Order No. 1078, Order Concerning Rate Adjustment for Bilateral Agreement with Canada Post Negotiated Service Agreement, December 27, 2011.

² The Notice states that the amendment was previously filed with both the Commission and the Department of State. Id.

The Postal Service asks that the Commission take note of the referenced amendment and of updated financial models demonstrating that the agreement continues to comport with 39 U.S.C. 3622(c)(10). Id. at 3.

II. Contents of Filing

The Postal Service's filing consists of the Notice, two attachments, and a public Excel file. Attachment 1 is an application for non-public treatment of material filed under seal, which consists of the unredacted amendment to the contract and supporting financial documentation. Id. at 1. Attachment 2 is a redacted version of the material filed under seal. Id. at 1-2. The public Excel file contains redacted financial documentation. Id. at 2.

III. Notice of Filing and Related Proceeding

The Commission hereby informs the public of the Postal Service's Notice and of the reopening of Docket No. R2012-5 for the limited purpose of considering issues raised by the Notice (the continued consistency of the underlying agreement with 39 U.S.C. 3622(c)(10)). Interested persons may submit comments no later than December 17, 2012. The public portions of the Postal Service's filing can be accessed via the Commission's Web site (http://www.prc.gov). Information on how to obtain access to sealed material appears in 39 CFR part 3007. The Commission appoints James F. Callow to serve as Public Representative in this proceeding.

IV. Ordering Paragraphs

It is ordered:

1. The Commission reopens Docket No. R2012-5 for the limited purpose of considering matters raised by the amendment addressed in the Postal Service's Notice.

2. Pursuant to 39 U.S.C. 505, James F. Callow is appointed to serve as an officer of the Commission (Public Representative) to represent the interests of the general public for this aspect of this docket.

3. Comments by interested persons in these proceedings are due no later than December 17, 2012.

4. The Secretary shall arrange for publication of this notice and order in the Federal Register.

By the Commission.
Shoshana M. Grove,
Secretary.

[FR Doc. 2012-29907 Filed 12-11-12; 8:45 am]

BILLING CODE 7710-FW-P